DEPARTMENT OF VETERANS AFFAIRS

[OMB Control No. 2900-New (10-21034j)]

Agency Information Collection Activities Under OMB Review

AGENCY: Veterans Health Administration, Department of Veterans Affairs

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before November 6, 2006.

FOR FURTHER INFORMATION OR A COPY OF THE SUBMISSION CONTACT: Denise McLamb, Records Management Service (005G1), Department of Veterans Affairs, 810 Vermont Avenue, NW., Washington, DC 20420, (202) 565-8374, FAX (202) 565-7870 or e-mail: denise.mclamb@mail.va.gov. Please refer to “OMB Control No. 2900-New (10-21034j).”

Send comments and recommendations concerning any aspect of the information collection to VA's OMB Desk Officer, OMB Human Resources and Housing Branch, New Executive Office Building, Room 10235, Washington, DC 20503 (202) 395-7316. Please refer to “OMB Control No. 2900-New (10-21034j)” in any correspondence.

SUPPLEMENTARY INFORMATION: Title: Health Insurance and Key Driver Modules for the Survey of Veteran Enrollees' Health and Reliance Upon VA, VA Forms 10-21034j and 10-21034k.

OMB Control Number: 2900-New (10-21034j).

Type of Review: New collection.

Abstract: VA will use the data collected on VA Forms 10-21034j and 10-21034k to accurately project the number of veterans' enrolled in and/or utilizing VA's health care system and as the basis for policy and budgetary analyses.

An agency may not conduct or sponsor, and a person is not required to respond to a collection of information unless it displays a currently valid OMB control number. The Federal Register Notice with a 60-day comment period soliciting comments on this collection of information was published on June 20, 2006, at pages 35481-35482.

Affected Public: Federal Government.

Estimated Annual Burden:

VA Form 10-21034j—2,800 hours.

VA Form 10-21034k—367 hours.

Estimated Average Burden Per Respondent:

VA Form 10-21034j—4 minutes.

VA Form 10-21034k-11 minutes.

Frequency of Response: Annually.

Estimated Number of Respondents:

VA Form 10-21034j—42,000.

VA Form 10-21034k—2,000.

Dated: September 25, 2006.
By direction of the Secretary.
Denise McLamb,
Program Analyst, Initiative Coordination Service.

[FR Doc. E6-16510 Filed 10-5-06; 8:45 am]

BILLING CODE 8320-01-P